DEPARTMENT OF TRANSPORTATION

Coast Guard

[USCG-2000-10067]

Chemical Transportation Advisory Committee

AGENCY: Coast Guard, DOT.

ACTION: Notice of meeting.

SUMMARY: The Subcommittee of the Chemical Transportation Advisory Committee (CTAC) on Prevention Through People (PTP) will meet to discuss the progress and development of its risk guide for the chemical transportation industry. This meeting will be open to the public.

DATES: The Subcommittee will meet on Monday, August 6, 2001, from 12:30 p.m. to 4 p.m. and on Tuesday, August 7, 2001, from 8:30 a.m. to 4 p.m. The meeting may close early if all business is finished. Written material and requests to make oral presentations should reach the Coast Guard on or before July 25, 2001. Requests to have a copy of your material distributed to each member of the Subcommittee should reach the Coast Guard on or before July 25, 2001.

ADDRESSES: The Subcommittee will meet at the American Bureau of Shipping (ABS) Offices, 16855 Northchase Drive, Houston, Texas. Send written material and requests to make oral presentations to Lieutenant Greg Herold, Coast Guard Technical Representative for the Subcommittee, Commandant (G-MSO-3), U.S. Coast Guard Headquarters, 2100 Second Street SW., Washington, DC 20593-0001.

FOR FURTHER INFORMATION CONTACT: Lieutenant Gregory F. Herold, Deputy Assistant to the Executive Director of CTAC, telephone 202-267-1217, fax 202-267-4570.

SUPPLEMENTARY INFORMATION: Notice of this meeting is given under the Federal Advisory Committee Act, 5 U.S.C. App. 2.

Agenda of Meeting

The agenda of the Subcommittee of the Chemical Transportation Advisory Committee (CTAC) on PTP includes the following:

(1) Introduction of Subcommittee members.

(2) Brief overview of Subcommittee's past work and review of the chemical transportation industry risk guide.

(3) Review and discussion of case studies to measure and incorporate into the risk guide.

(4) Development of future Subcommittee activities.

Procedural

The meeting is open to the public. Please note that the meeting may close early if all business is finished. All attendees at the meeting are encouraged to fully review the Subcommittee's task statement prior to the meeting. Copies of the Subcommittee's task statement can be obtained from Lieutenant Gregory F. Herold, telephone 202-267-1217, fax 202-267-4570. It is also available from the CTAC Internet Website at: www.uscg.mil/hq/g-m/advisory/ctac. At the discretion of the Subcommittee Chair, members of the public may make oral presentations during the meeting. If you would like to make an oral presentation at the meeting, please notify the Coast Guard Technical Representative to the Subcommittee and submit written material on or before July 25, 2001. If you would like a copy of your material distributed to each member of the Subcommittee in advance of a meeting, please submit 25 copies to the Coast Guard Technical Representative to the Subcommittee no later than July 25, 2001.

Information on Services for Individuals With Disabilities

For information on facilities or services for individuals with disabilities, or to request special assistance at the meeting, contact the Deputy Assistant to the Executive Director of CTAC as soon as possible.

Dated: July 9, 2001.
Howard L. Hime,
Director of Standards (Acting), Marine Safety and Environmental Protection.

[FR Doc. 01-17725 Filed 7-13-01; 8:45 am]

BILLING CODE 4910-15-P